DEPARTMENT OF AGRICULTURE

Office of the Secretary

Commission on 21st Century Production Agriculture

ACTION: Notice of meeting.

SUMMARY: The U.S. Department of Agriculture (USDA) has established the Commission on 21st Century Production Agriculture. In accordance with Section 10(a)(2) of the Federal Advisory Committee Act (FACA), notice is hereby given of a meeting in April of the Commission on 21st Century Production Agriculture. The purpose of this meeting on April 10 will be to address issues regarding dairy policy. On April 11-12, coordination of and issues regarding the final report will be discussed. This meeting is open to the public.

PLACE, DATE, AND TIME OF MEETING: This meeting will be held April 10, 2000 from 1:00 pm-5:00 pm EST in Room 108-A, Whitten Building; April 11, 2000 from 9:00 am-5:00 pm EST in Room 108-A, Whitten Building; April 12, 2000 from 9:00 am-3:00 pm EST in Room 108-A, Whitten Building.

FOR FURTHER INFORMATION CONTACT: Mickey Paggi on (202-720-3139), Director, Commission on 21st Century Production Agriculture, Room 3702 South Building, 1400 Independence Avenue, SW, Washington, DC 20250-0524.

Keith J. Collins,
Chief Economist.

[FR Doc. 00-7036 Filed 3-21-00; 8:45 am]

BILLING CODE 3410-01-M